DEPARTMENT OF DEFENSE

Department of the Air Force

Notice of Intent To Perform an Environmental Assessment for the Retirement of the F-117A and T-38A Aircraft and Beddown of the F-22A at Holloman Air Force Base, NM

AGENCY: Department of the Air Force, Air Combat Command.

ACTION: Notice of Intent to prepare an Environmental Assessment at Holloman Air Force Base, New Mexico for retirement of the F-117A, and T-38A, and 3rd operational beddown of the F-22A.

SUMMARY: The United States Air Force is issuing this Notice of Intent (NOI) to announce that it is conducting an Environmental Assessment (EA) to determine the potential environmental consequences of a proposal to transform the combat capability of the 49th Fighter Wing and maximize the use of available infrastructure at Holloman AFB by replacing the retiring F-117A aircraft and T-38A aircraft supporting the F-117A mission with two F-22A squadrons. The Air Force has identified Holloman AFB as the preferred location for the third operational wing of the Air Force's F-22A Raptor, which would enhance the low observable, precision weapons system capability of the 49th Fighter Wing.

The EA for the proposed action will be prepared in compliance with the National Environmental Policy Act (NEPA) of 1969 (42 U.S.C. 4321-4347), the Council on Environmental Quality NEPA Regulations (40 CFR 1500-1508); and the Air Force's Environmental Impact Analysis Process (EIAP) (Air Force Instruction 32-7061 as promulgated at 32 CFR 989). As part of the proposal, the Air Force will analyze the following actions at Holloman AFB:

• Retire F-117A and T-38A aircraft currently based at Holloman AFB.

• Beddown and operate two F-22A aircraft squadrons.

• Renovate existing facilities and construct new facilities to support the F-22A squadrons.

• Adjust base manning to reflect F-22A beddown requirements

• Conduct F-22A training routinely in airspace within 100 miles of Holloman AFB, to include supersonic operations.

• Expand chaff and flare use in military airspace.

Alternatives meeting the underlying purpose and need of the proposed action, if any, will be developed during the EIAP process. This process includes gathering information from the scoping meetings.

DATES: The Air Force will host public scoping meetings April 17 through 19, 2006 for the general public and government agencies to help determine the scope of issues to be addressed and identify environmental issues to be analyzed in depth. All meetings will be held from 5:30 p.m.-7 p.m.

April 17, 2006, 5:30 p.m.-7:30 p.m.; Town: Ruidoso; Location: Best Western Pine Springs Inn, 1420 West Highway 70, Ruidoso Downs, NM.

April 18, 2006, 5:30 p.m.-7:30 p.m.; Town: Truth or Consequences; Location: Truth or Consequences Civic Center, 400 W 4th Ave., Truth or Consequences, NM.

April 19, 2006, 5:30 p.m.-7:30 p.m.; Town: Alamogordo; Location: Sergeant Willie Estrada Memorial Civic Center, 800 East First Street, Alamogordo, NM.

During these meetings, the Air Force will provide additional information about the proposed retirement of the F-117A and T-38A aircraft and beddown of the F-22A at Holloman AFB. Public and agency comments presented at the meetings, as well as written comments received by the Air Force during the scoping period and throughout the environmental process, will be considered in the preparation of the EA. These scoping meetings would satisfy the requirement in 32 CFR 989.18 should the AF later determine an EIS is necessary. The Air Force will accept comments at any time during the environmental process. However, to ensure the Air Force has sufficient time to consider public input in the preparation of the Draft EA, comments should be submitted to the address below by May 4, 2006.

FOR FURTHER INFORMATION CONTACT: Ms. Linda A. DeVine, HQ ACC/A7ZP, c/o SAIC, 22 Enterprise Parkway, Suite 200, Hampton, VA 23666, 757-827-2659.

Bao-Anh Trinh,
Air Force Federal Register Liaison Officer.

[FR Doc. E6-5169 Filed 4-7-06; 8:45 am]

BILLING CODE 5001-06-P